DEPARTMENT OF THE INTERIOR

National Park Service

[NPS-WASO-NAGPRA-NPS0037055; PPWOCRADN0-PCU00RP14.R50000]

Notice of Inventory Completion: The University of Oregon Museum of Natural and Cultural History, Eugene, OR

AGENCY: National Park Service, Interior.

ACTION: Notice.

SUMMARY: The University of Oregon Museum of Natural and Cultural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Oregon Museum of Natural and Cultural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Oregon Museum of Natural and Cultural History at the address in this notice by January 12, 2024.

ADDRESSES: Dr. Pamela Endzweig, Director of Anthropological Collections, Museum of Natural and Cultural History, 1224 University of Oregon, Eugene, OR 97403-1224, telephone (541) 346-5120, email endzweig@uoregon.edu.

SUPPLEMENTARY INFORMATION: Notice is here given in accordance with the Native American Graves Protection and Repatriation Act (NAGPRA), 25 U.S.C. 3003, of the completion of an inventory of human remains and associated funerary objects under the control of the University of Oregon Museum of Natural and Cultural History, Eugene, OR. The human remains and associated funerary objects were removed from four sites in Multnomah and Columbia counties, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Oregon Museum of Natural and Cultural History professional staff in consultation with representatives of the Confederated Tribes and Bands of the Yakama Nation; Confederated Tribes of Siletz Indians of Oregon; Confederated Tribes of the Grand Ronde Community of Oregon; and the Confederated Tribes of the Warm Springs Reservation of Oregon (hereafter referred to as “The Tribes”).

History and Description of the Remains

In 1973, human remains representing, at minimum, seven individuals, were removed from the Cholick Site (35MU1) in Multnomah County, OR. The museum records indicate that the human remains were excavated during legally authorized excavations at the Cholick Site by University of Oregon archeologists. The human remains consist of three adults of indeterminate sex, one adult male, and one adolescent and two children of indeterminate sex (cat. #s 11-535, 11-536, 11-546, and unnumbered human remains from unit C and from Feature 8). No known individuals were identified. No associated funerary objects are present.

In 1973, human remains representing, at minimum, one individual, were removed from the Lyons Site (35MU6) in Multnomah County, OR. These human remains were also excavated during legally authorized work by University of Oregon archeologists. The human remains consist of a single individual of indeterminate age and sex (cat. #11-545). No known individuals were identified. The eight associated funerary objects are two cobble hammerstones, one metal fragment, and five glass beads.

In 1973, human remains representing, at minimum, one individual were removed from the Meier Site (35CO5) in Columbia County, OR, during legally authorized excavations by University of Oregon archaeologists. The human remains consist of one tooth from a single individual of indeterminate age and sex (no catalog number assigned). No known individual was identified. No associated funerary objects are present.

In 1973, human remains representing, at minimum, one individual were removed from an unknown location in Columbia or Multnomah counties, OR. These human remains were recovered at the time of the legally authorized investigations by University of Oregon archeologists working in the Portland Basin of the Lower Columbia Valley as described above. The human remains consist of a single adult, possibly female (no catalog number assigned). No known individual was identified. No associated funerary objects are present.

According to published materials referencing the sites and burials above, the Cholick Site is assigned to the Multnomah 1 sub-phase of the regional chronology, dated to 200-1250 CE. One burial feature (Feature 1) was recorded during excavations, and charcoal from the same stratum was radiocarbon-dated to 1510±90 RYBP. The Lyons and Meier Sites are assigned to the Multnomah 2 and 3 sub-phases of the Multnomah Phase (1250-1835 CE). This is supported by the presence of glass beads with the Lyons site burial. Historical documents, ethnographic sources, and oral history indicate that the Multnomah people occupied the Portland Basin of the Lower Columbia Valley since pre-contact times. Based on the museum records of provenience, the human remains are reasonably believed to be Multnomah. Descendants of the Multnomah are members of the Confederated Tribes of the Grand Ronde Community of Oregon.

Determinations Made by the University of Oregon Museum of Natural and Cultural History

Officials of the University of Oregon Museum of Natural and Cultural History have determined that:

• Pursuant to 25 U.S.C. 3001(9), the human remains described in this notice represent the physical remains of 10 individuals of Native American ancestry.

• Pursuant to 25 U.S.C. 3001(3)(A), the eight objects described in this notice are reasonably believed to have been placed with or near individual human remains at the time of death or later as part of the death rite or ceremony.

• Pursuant to 25 U.S.C. 3001(2), there is a relationship of shared group identity that can be reasonably traced between the Native American human remains and associated funerary objects and the Confederated Tribes of the Grand Ronde Community of Oregon.

Additional Requestors and Disposition

Lineal descendants or representatives of any Indian Tribe or Native Hawaiian organization not identified in this notice that wish to request transfer of control of these human remains and associated funerary objects should submit a written request with information in support of the request to Dr. Pamela Endzweig, Director of Anthropological Collections, Museum of Natural and Cultural History, 1224 University of Oregon, Eugene, OR 97403-1224, telephone (541) 346-5120, email endzweig@uoregon.edu, by January 12, 2024. After that date, if no additional requestors have come forward, transfer of control of the human remains and associated funerary objects to the Confederated Tribes of the Grand Ronde Community of Oregon may proceed.

The University of Oregon Museum of Natural and Cultural History is responsible for notifying The Tribes that this notice has been published.

Dated: December 6, 2023.
Melanie O'Brien,
Manager, National NAGPRA Program.

[FR Doc. 2023-27369 Filed 12-12-23; 8:45 am]

BILLING CODE 4312-52-P